DEPARTMENT OF VETERANS AFFAIRS

Advisory Committee on Homeless Veterans; Notice of Meeting

The Department of Veterans Affairs (VA) gives notice under the Federal Advisory Committee Act that a meeting of the Advisory Committee on Homeless Veterans will be held August 28-29, 2019 from 8:00 a.m. to 5:00 p.m. (Central Standard Time). The meeting sessions will take place at Minnesota Housing, 400 Wabasha Street North, Suite 400, Lake Superior Conference Room, Saint Paul, Minnesota 55102. Sessions are open to the public, except when the Committee is conducting tours of VA and other Veteran service facilities, participating in off-site events, and participating in administrative workgroup sessions to discuss topics for its recommendations to the Secretary of Veterans Affairs. Tours of VA and Veteran service facilities are closed, to protect Veterans' privacy and personal information in accordance with 5 U.S.C. 552b(c)(6).

The purpose of the Committee is to provide the Secretary of Veterans Affairs with an on-going assessment of the effectiveness of the policies, organizational structures, and services of VA in assisting Veterans at-risk and experiencing homelessness. The Committee shall assemble, and review information related to the needs of homeless Veterans and provide advice on the most appropriate means of providing assistance to that subset of the Veteran population. The Committee will make recommendations to the Secretary of Veterans Affairs regarding such activities.

On Wednesday, August 28, 2019, the Committee will convene an open session and the agenda will include briefings from officials at VA and other federal, state and local agencies regarding services for homeless Veterans. On Thursday, August 29, 2019, the Committee will convene a closed session to conduct tours of VA and Veteran service facilities, participating in off-site events, and participating in administrative workgroup sessions to discuss topics for its recommendations to the Secretary of Veterans Affairs. Tours of VA and Veteran service facilities are closed, to protect Veterans' privacy and personal information, in accordance with 5 U.S.C. 552b(c)(6).

No time will be allocated at this meeting for receiving oral presentations from the public. Interested parties should provide written comments on issues affecting homeless Veterans for review by the Committee to Mr. Anthony Love, Designated Federal Officer, Veterans Health Administration, Homeless Programs Office (10NC1), Department of Veterans Affairs, 811 Vermont Avenue NW (10NC1), Washington, DC 20420, or via email at Anthony.Love@va.gov and Leisa.Davis@va.gov.

Members of the public who wish to attend should contact Anthony.Love@va.gov and Leisa.Davis@va.gov of the Veterans Health Administration, Homeless Programs Office no later than August 1, 2019, to provide their name, professional affiliation, email address, and phone number. There will also be a call-in number at 1-800-767-1750; access code: 50653#. Attendees who require reasonable accommodations should also state so in their requests. Please arrive to Minnesota Housing, 400 Wabasha Street North, Suite 400, Lake Superior Conference Room, Saint Paul, Minnesota 55102, at least 20 (twenty) minutes before the meeting start time to clear the building security checkpoint.

Dated: July 22, 2019.
Jelessa M. Burney,
Federal Advisory Committee Management Officer.

[FR Doc. 2019-15799 Filed 7-24-19; 8:45 am]

BILLING CODE P